DEPARTMENT OF JUSTICE

National Institute of Corrections

Solicitation for a Cooperative Agreement: Update and Expansion of Civil Liabilities Guidebook for Probation/Parole

AGENCY: National Institute of Corrections, Department of Justice.

ACTION: Solicitation for a Cooperative Agreement.

SUMMARY: The National Institute of Corrections (NIC) is soliciting proposals from qualified organizations or individuals who would like to enter into an 18-month cooperative agreement with NIC. It is intended that the following three products will be delivered by the awardee during the 18-month time period:

Revision and updating of the NIC document entitled Civil Liabilities and Other Legal Issues for Probation/Parole Officers and Supervisors, Third Edition, U.S. Department of Justice, National Institute of Corrections; Rolando V. del Carmen and Maldine Beth Barnhill, Gene Bonham, Jr., Lance Hignite, & Todd Jermstad, Sam Houston State University, 2001;

Development of an Executive Supplement for directors and chiefs of probation, parole and other community corrections agencies that identifies legal issues and responsibilities unique to their chief executive level positions;

Development of various adult learning vehicles for training and dissemination of the material in the Fourth Edition of the core document as well as the new Executive Supplement.

DATES: Applications must be received by 4 p.m. EDST on Thursday, May 22, 2008.

ADDRESSES: Mailed applications must be sent to: Director, National Institute of Corrections, 320 First Street, NW., Room 5007, Washington, DC 20534. Applicants are encouraged to use Federal Express, UPS, or similar service to ensure delivery by the due date.

Hand delivered applications should be brought to 500 First Street, NW., Washington, DC 20534. At the front desk, call 202-307-3106, extension 0, for pickup. Faxed applications will not be accepted. Electronic applications can be submitted via http://www.grants.gov.

FOR FURTHER INFORMATION CONTACT: A copy of this announcement and the required application forms can be downloaded from the NIC Web page at http://www.nicic.gov.

All technical or programmatic questions concerning this announcement should be directed to Dot Faust at dfaust@bop.gov or to George Keiser at gkeiser@bop.gov.

SUPPLEMENTARY INFORMATION: Copies of the Third Edition Civil Liabilities and Other Legal Issues for Probation/Parole Officers and Supervisors can be obtained by contacting NIC's Information Center Librarian, Eileen Conway, at 303-365-4422 or at e-mail econway@nicic.org. The document is also available through NIC's Web site at http://www.nicic.gov.

Project Goal: The overall goal of the project is to inform probation and parole executives, managers and staff about civil liabilities as they apply to their various decision making levels in the organization. It is expected that new and updated information will supplement the third edition (see above cite) contents. The third edition 2001 NIC document is due for updating and possible refining in light of legal actions and legislation that have application since the last printing. NIC is also interested in the identification of critical legal issues that CEO-level officials need to address through policy, training or management within their agencies. Finally, NIC is seeking creative and effective approaches to disseminate the information to the target audiences.

Credentials: Please note in your application any technical skills, experience or credentials that make you or your organization distinctly qualified to deliver the specified products.

Applicants Conference: A telephone conference will be conducted for persons receiving this solicitation and having a serious intent to respond on May 13th at 12 noon EDST.

In this conference, NIC project managers will respond to questions regarding the solicitation and expectations of work to be performed. Please notify Dot Faust electronically (dfaust@bop.gov) by 12 p.m. noon EDST on May 9th regarding your interest in participating in the conference. You will be provided with a call-in number and instructions. In addition, NIC project managers will post answers to questions received from potential applicants on its website while the solicitation is open.

Application Requirements: Please prepare a cooperative agreement proposal and limit the program narrative text to no more than 10 double spaced pages, excluding statements of organizational or individual capacity and summaries of the experiences and capabilities of key project staff and/or the individual applicant. Please submit summaries of experience and expertise and not full curricula vitae.

The proposal should include a description of the project objectives, methodologies and management plan for achieving the completion of all three deliverables within an 18-month time period. A budget narrative should also be included, with breakouts for the three separate deliverables, a list of all persons who will be involved in each of the three deliverable-segments, and complete contact information for all those involved.

Give examples of your experience in delivering legal training, lesson plans or curriculum to criminal justice and corrections practitioners at the executive, management and line levels. Please give examples of relevant publications you have produced and/or written, as well as any multi-media approaches you have used successfully in training or informing criminal justice/corrections practitioner audiences.

Submit an original and five copies. The original should have the applicant's signature in blue ink.

Application format: The application should reference the “NIC Application Number” and Title provided in this announcement. The application package must include: OMB Standard Form 424, Application for Federal Assistance; cover letter that identifies the audit agency responsible for the applicant's financial accounts as well as the audit period or fiscal year that the applicant operates under (e.g., July 1 through June 30); an outline of projected costs; and the following forms: OMB Standard Form 424A, Budget Information—Non Construction Programs; and OMB Standard Form 424B, Assurances—Non Construction Programs; (These forms are available on http://www.grants.gov.) Other forms: You will also need to attach the completed DOJ/NIC Certification Regarding Lobbying; Debarment, Suspension and Other Responsibility Matters; and the Drug-Free Workplace Requirements (available at http://www.nicic.gov/Downloads/PDF/certif-frm.pdf.)

Authority: Public law 93-415.

Funds Available: NIC is seeking the applicant's best ideas regarding accomplishment of the scope of work and the related costs for achieving the goals of this solicitation. The final budget and award amount will be negotiated between NIC and the successful applicant. Funds may only be used for the activities that are linked to the desired outcome of the project. No funds are transferred to state or local governments.

Review Considerations: Applications received under this announcement will be subjected to a 3 to 5 person NIC Review Process.

Eligibility of Applicants: An eligible applicant is any agency, educational institution, organization, individual or team with the expertise and experience in described areas.

Number of Awards: One

NIC Application Number: 08C77. This number should appear as a reference line in the cover letter, in box 4a of Standard Form 424, and outside of the envelope in which the application is sent.

Catalog of Federal Domestic Assistance Number: 16.601

Executive Order 12372: This project is not subject to the provisions of Executive Order 12372.

Morris L. Thigpen,
Director, National Institute of Corrections.

[FR Doc. E8-9453 Filed 4-29-08; 8:45 am]

BILLING CODE 4410-36-P